DEPARTMENT OF HOUSING AND URBAN DEVELOPMENT

[Docket No. FR-5030-N-01]

Notice of HUD's Fiscal Year 2006 Notice of Funding Availability Policy Requirements and General Section to the SuperNOFA for HUD's Discretionary Programs

AGENCY: Office of the Secretary, HUD.

ACTION: Notice of HUD's Fiscal Year (FY) 2006 Notice of Funding Availability (NOFA) policy requirements and general section to the FY2006 SuperNOFA for HUD's Discretionary Programs (notice).

SUMMARY: This notice provides prospective applicants for HUD competitive funding with the opportunity to become familiar with the General Section to HUD's FY2006 SuperNOFA, in advance of publication of the FY2006 SuperNOFA. Publication of HUD's annual SuperNOFA is targeted for publication in early 2006. This early publication of the General Section is one of several steps that HUD is taking to improve the funding process for its grantee community. Early publication of the General Section will give prospective applicants additional time to become familiar with and address those provisions in the General Section, which constitute part of almost every application. HUD will publish changes to this General Section made after today's publication with the SuperNOFA.

HUD will continue to require that applicants submit their applications electronically via Grants.gov. For FY2006, only the Continuum of Care will remain as a paper application process. It is HUD's intent to move the Continuum of Care to electronic application submittal in FY2007. All prospective applicants should take this time to carefully read the Federal Register Notice published on December 9, 2005 entitled “Notice of Opportunity to Register Early for Electronic Submission of Grant Applications for HUD Funding Opportunities; Early Registration with Grants.gov,” and register prior to the publication of the Program Sections of the FY2006 SuperNOFA. The early registration notice can be found on HUD's Web site at http://www.hud.gov/offices/adm/grants/fundsavail.cfm. Continuum of Care applicants are advised to become familiar with the registration and submission procedures. Although HUD is not requiring electronic submission for the Continuum of Care this year, all the Federal grant-making agencies are pledging to make 75 percent of funding opportunities available on Grants.gov in FY2006. Therefore, Continuum of Care agencies would benefit from becoming familiar with the requirements so they do not limit their ability to get funding from sources other than HUD in FY2006.

FOR FURTHER INFORMATION CONTACT: Office of Departmental Grants Management and Oversight, Office of Administration, Department of Housing and Urban Development, 451 Seventh Street, SW., Room 3156, Washington, DC 20410-5000, telephone number (202) 708-0667. Persons with hearing or speech impairments may access this number via TTY by calling the Federal Information Relay Service at (800) 877-8339.

SUPPLEMENTARY INFORMATION: Each year, HUD strives to improve its competitive funding process. In FY2005, HUD successfully migrated from paper application submission for the majority of its funding opportunities to electronic application submission. Over 5,400 applicants successfully submitted applications electronically for HUD's grant programs. While the majority of HUD's applicants were able to make the transition to electronic government, a minority had difficulty with the submission process. In speaking with applicants, HUD has heard the concerns raised and therefore has taken several steps to provide early technical assistance and information so that every applicant can successfully meet the electronic submission requirements.

HUD wants every applicant to transition successfully to electronic application submission in FY2006. HUD believes that by issuing its Early Registration for Grant Application Submission Notice published on December 9, 2005 (70 FR 73332), and this General Section in advance of the publication of the FY2006 Program Sections of the SuperNOFA, applicants will have time to familiarize themselves with the General Requirements applicable to all programs and complete the five-step Grants.gov registration process. This way, when the program NOFAs are published, applicants can focus on completing and submitting their applications in accordance with all related requirements and timelines.

The Early Registration Notice provides step-by-step instructions for applicants that have to register with Grants.gov and renewal instructions for those that have previously registered. The renewal instructions are simple and easy to follow, but must be completed before an applicant's registration with the Central Contractor Registry (CCR) expires. Failure to update the registration in the CCR will require an applicant to go through the entire registration process again.

Early registration for electronic grant application submission (see notice published on December 9, 2005) and early publication of the General Section of the FY2006 SuperNOFA are just two steps that HUD is taking in FY2006 to improve the funding process. HUD is also taking steps to streamline and simplify the application submission requirements so that applications will be easier to complete and upload. To ensure that HUD continues to get feedback from the public on these improvements, each application and HUD's Web site will contain a revised “You Are Our Client” survey questionnaire. HUD requests that you respond to this survey to let us know what improvements have been beneficial and to share your ideas on where improvements can continue to be made. HUD carefully considers the comments received from its clients and continually strives to improve each year's SuperNOFA and its funding process.

HUD believes that early publication of the General Section is beneficial to prospective applicants by providing advance notice of the Department's threshold requirements, strategic goals, policy priorities, and other comprehensive requirements that are applicable to almost every individual NOFA that comprises the SuperNOFA. The General Section, as in the past, is structured to refer the reader to the individual program NOFAs. Although the program NOFAs are not being published at this time, the references are retained. This way, when the program sections of the FY2006 SuperNOFA are published, they will work together as they have done since the first SuperNOFA was published in 1998. HUD intends to publish the program NOFAs in early 2006. Applicants interested in receiving e-mail notification of the availability of the program sections should go to http://www.grants.gov/Find#receiveGetStarted and sign up for e-mail notification of funding opportunities. By doing so, you will receive an e-mail as soon as the program NOFA portion of the SuperNOFA and application is available on Grants.gov. This publication includes a list of programs anticipated to be in the FY2006 SuperNOFA, subject to the availability of funds. The program NOFA portion of the SuperNOFA will include any changes made to this listing and provide projected funding available and application deadline dates.

In addition to the early publication of the Grants.gov registration process and the General Section of the FY2006 SuperNOFA, HUD continually strives to provide technical assistance and training to prospective applicants. To ensure effective communication with current and potential funding recipients, HUD has been posting pertinent documents related to these efforts on its Web site, including training opportunities available via satellite broadcast and Webcast, local registration and submission clinics, and grant writing workshops sponsored by HUD's Office of Faith-Based and Community Initiatives. HUD encourages you to visit the Department's Web site for information regarding the latest developments. HUD's Web site address for information on this initiative is http://www.hud.gov/offices/adm/grants/egrants/egrants.cfm. Information on grant streamlining activities can be found at http://www.hud.gov/offices/adm/grants/pl-106107/pl106-107.cfm.

HUD hopes that the steps that it has taken to provide information early on the FY2006 funding process and SuperNOFA requirements will be of benefit to you.

Dated: January 11, 2006.
Roy A. Bernardi,
Deputy Secretary.

General Section to HUD's Fiscal Year 2006 SuperNOFA

Overview Information

A. Federal Agency Name: Department of Housing and Urban Development (HUD), Office of the Secretary.

B. Funding Opportunity Title: Policy requirements applicable to all HUD notices of funding availability (NOFAs) published during FY2006.

C. Announcement Type: Initial announcement of the general policy requirements that apply to all HUD Federal financial assistance NOFAs for FY2006 issued simultaneously with or after the publication of this notice.

D. Funding Opportunity Number: FR 5030-N-01.

E. Catalog of Federal Domestic Assistance (CFDA) Number: A CFDA number is provided for each HUD Federal financial assistance program. When using “Apply Step 1” on the Grants.gov Web site to download an application, you will be asked for the CFDA number. Please refer to the program NOFA for the CFDA number assigned to the program(s) for which you wish to apply.

Tip for Finding Application Information: Use only the CFDA number, OR the Funding Competition Identification Number, OR Funding Opportunity Number when using the search feature on Grants.gov. Using more than one of these items will result in an error message indicating that the opportunity cannot be found.

F. Dates: The key dates that apply to all HUD Federal financial assistance made available through HUD's FY2006 NOFAs are found in each individual program NOFA. Appendix A to this General Section lists the programs expected to be included in the FY2006 SuperNOFA. The SuperNOFA publication will contain a detailed Appendix A that will provide the final list of programs included in the SuperNOFA, funds available under each funding opportunity, and key deadline dates.

G. Optional, Additional Overview Content Information: Unless otherwise stated, HUD's general policy requirements set forth in this notice apply to all HUD Federal financial assistance made available through HUD's FY2006 NOFAs. These policies cover those NOFAs issued through the SuperNOFA, as well as those that HUD will issue after publication of the SuperNOFA in the Federal Register.

Full Text of Announcement

I. Funding Opportunity Description

This notice describes HUD's FY2006 policy requirements applicable to all of HUD's NOFAs published in FY2006. Each such NOFA will contain a description of the specific requirements for the program for which funding is made available and each will refer to applicable policies described in this General Section. Each program NOFA will also describe additional procedures and requirements that apply to the individual program NOFA, including a description of the eligible applicants, eligible activities, threshold requirements, factors for award, and any additional program requirements or limitations. To adequately address all of the application requirements for any program for which you intend to apply, please carefully read and respond to both this General Section and the individual program NOFAs.

Authority. HUD's authority for making funding available under its FY2006 programs is identified in each program NOFA under the section entitled “Funding Opportunity Description.”

II. Award Information

Funding Available. Each program NOFA will identify the estimated amount of funds available in FY2006, either as a result of the enactment of a HUD appropriations act or based upon available appropriations and any funds from previous years available for award in FY2006. Appendix A to this notice contains a chart of the programs expected to be included in the FY2006 SuperNOFA. HUD will publish an updated chart, noting the amount of funds available for each program, and the required deadline date with the publication of the Program NOFA section of the FY2006 SuperNOFA. If other program funds become available, HUD reserves the right to increase the available funding for the applicable program by those amounts. Note that additional program NOFAs may be published as part of the FY2006 SuperNOFA or published separately from the FY2006 SuperNOFA.

III. Eligibility Information

A. Eligible Applicants

The individual program NOFAs describe the eligible applicants and eligible activities for each program.

B. Cost Sharing or Matching

The individual program NOFAs describe the applicable cost sharing, matching requirements, or leveraging requirements related to each program, if any. Although matching or cost sharing may not be required, HUD programs often encourage applicants to leverage grant funds with other funding to receive higher rating points.

C. Other Requirements and Procedures Applicable to All Programs

Except as may be modified in the individual program NOFAs, the requirements, procedures, and principles listed below apply to all programs in FY2006 for which funding is announced by NOFA and published in the Federal Register. Please read the individual program NOFAs for additional requirements and information.

1. Statutory and Regulatory Requirements

To be eligible for funding under HUD's NOFAs issued during FY2006, applicants must meet all statutory and regulatory requirements applicable to the program or programs for which they seek funding. Applicants requiring program regulations may obtain them from the NOFA Information Center or through HUD's Grants Web site at http://www.hud.gov/offices/adm/grants/fundsavail.cfm. See the individual program NOFAs for instructions on how HUD will respond to proposed activities that are ineligible.

2. Threshold Requirements

a. Ineligible Applicants. HUD will not consider an application from an ineligible applicant.

b. Dun and Bradstreet Data Universal Numbering System (DUNS) Number Requirement. All applicants seeking funding directly from HUD must obtain a DUNS number and include the number in its Application for Federal Assistance submission. Failure to provide a DUNS number will prevent you from obtaining an award, regardless of whether it is a new award or renewal of an existing award. This policy is pursuant to the Office of Management and Budget (OMB) policy issued in the Federal Register on June 27, 2003 (68 FR 38402). HUD published its regulation implementing the DUNS number requirement on November 9, 2004 (69 FR 65024). A copy of the OMB Federal Register notice and HUD's regulation implementing the DUNS number can be found on HUD's Web site at http://www.hud.gov/offices/adm/grants/duns.cfm. Applicants cannot submit applications electronically without a DUNS number entry. Applicants must carefully enter the DUNS number on the application package, making sure it is identical to the DUNS number under which the Authorized Organization Representative is registered to submit an application.

c. Compliance With Fair Housing and Civil Rights Laws.

(1) With the exception of federally recognized Indian tribes and their instrumentalities, applicants must comply with all applicable fair housing and civil rights requirements in 24 CFR 5.105(a). If you are a federally recognized Indian tribe, you must comply with the nondiscrimination provisions enumerated at 24 CFR 1000.12, as applicable. In addition to these requirements, there may be program-specific threshold requirements identified in the individual program NOFAs.

(2) If you, the applicant:

(a) Have been charged with an ongoing systemic violation of the Fair Housing Act; or

(b) Are a defendant in a Fair Housing Act lawsuit filed by the Department of Justice alleging an ongoing pattern or practice of discrimination; or

(c) Have received a letter of findings identifying ongoing systemic noncompliance under Title VI of the Civil Rights Act of 1964, Section 504 of the Rehabilitation Act of 1973, or Section 109 of the Housing and Community Development Act of 1974, and the charge, lawsuit, or letter of findings referenced in subparagaph (a), (b), or (c) above has not been resolved to HUD's satisfaction before the application deadline, then you are ineligible and HUD will not rate and rank your application. HUD will determine if actions to resolve the charge, lawsuit, or letter of findings taken before the application deadline are sufficient to resolve the matter.

Examples of actions that would normally be considered sufficient to resolve the matter include, but are not limited to:

(i) A voluntary compliance agreement signed by all parties in response to a letter of findings;

(ii) A HUD-approved conciliation agreement signed by all parties;

(iii) A consent order or consent decree; or

(iv) An issuance of a judicial ruling or a HUD Administrative Law Judge's decision.

d. Conducting Business in Accordance With Core Values and Ethical Standards. Applicants subject to 24 CFR parts 84 and 85 (most nonprofit organizations and State, local, and tribal governments or government agencies or instrumentalities that receive Federal awards of financial assistance) are required to develop and maintain a written code of conduct (see 24 CFR 84.42 and 85.36(b)(3)). Consistent with regulations governing specific programs, your code of conduct must prohibit real and apparent conflicts of interest that may arise among officers, employees, or agents; prohibit the solicitation and acceptance of gifts or gratuities by your officers, employees, or agents for their personal benefit in excess of minimal value; and outline administrative and disciplinary actions available to remedy violations of such standards. Before entering into an agreement with HUD, applicants awarded assistance under a HUD program NOFA announced in FY2006 will be required to submit a copy of its code of conduct and describe the methods it will use to ensure that all officers, employees, and agents of its organization are aware of its code of conduct. Applicants are prohibited from receiving an award of funds from HUD if they fail to meet this requirement for a code of conduct. Applicants that submitted an application during FY2004 or FY2005 and included a copy of their code of conduct will not be required to submit another copy if the applicant is listed on HUD's Web site at http://www.hud.gov/offices/adm/grants/codeofconduct/cconduct.cfm and if the information has not been revised. Applicants not listed on the HUD Web site must submit a copy of their code of conduct with their FY2006 application for assistance. Applicants must also include a copy of their code of conduct if the information listed on HUD's Web site has changed (e.g., the person who submitted the previous application is no longer your authorized organization representative, the organization has changed its legal name or merged with another organization, or the address of the organization has changed, etc.). Applicants that need to may submit their code of conduct to HUD via facsimile using the form HUD-96011, Facsimile Transmittal. When using the facsimile transmittal form, please type the requested information. Use HUD-96011 as the cover page to the submission and include in the top line of the form under “Name of Document Being Requested,” “Code of Conduct for (insert organization name, city, and state),” and fax the information to HUD's toll-free number at (800) HUD-1010. If you cannot access the 800 number or have problems, you may use (215) 825-8798 (this is not a toll-free number). When received, HUD will update the information on its Code of Conduct Web site.

e. Delinquent Federal Debts. Consistent with the purpose and intent of 31 U.S.C. 3720B and 28 U.S.C. 3201(e), HUD will not award Federal funds to an applicant that has an outstanding delinquent Federal debt unless (1) the delinquent account is paid in full, (2) a negotiated repayment schedule is established and the repayment schedule is not delinquent, or (3) other arrangements satisfactory to HUD are made prior to the deadline date.

f. Pre-Award Accounting System Surveys. HUD may arrange for a pre-award survey of the applicant's financial management system in cases where the recommended applicant has no prior Federal support, HUD's program officials have reason to question whether the applicant's financial management system meets Federal financial management standards, or the applicant is considered a high risk based upon past performance or financial management findings. HUD will not disburse funds to any applicant that does not have a financial management system that meets Federal standards.

g. Name Check Review. Applicants are subject to a name check review process. Name checks are intended to reveal matters that significantly reflect on the applicant's management and financial integrity, or if any key individual has been convicted or is presently facing criminal charges. If the name check reveals significant adverse findings that reflect on the business integrity or responsibility of the applicant or any key individual, HUD reserves the right to (1) deny funding or consider suspension or termination of an award immediately for cause, (2) require the removal of any key individual from association with management or implementation of the award, and (3) make appropriate provisions or revisions with respect to the method of payment or financial reporting requirements.

h. False Statements. A false statement in an application is grounds for denial or termination of an award and possible punishment as provided in 18 U.S.C. 1001.

i. Prohibition Against Lobbying Activities. Applicants are subject to the provisions of Section 319 of Public Law 101-121 (approved October 23, 1989) (31 U.S.C. 1352) (the Byrd Amendment), which prohibits recipients of Federal contracts, grants, or loans from using appropriated funds for lobbying the executive or legislative branches of the Federal Government in connection with a specific contract, grant, or loan. In addition, applicants must disclose, using Standard Form LLL (SF-LLL), “Disclosure of Lobbying Activities,” any funds, other than federally appropriated funds, that will be or have been used to influence Federal employees, members of Congress, or congressional staff regarding specific grants or contracts. Federally recognized Indian tribes and tribally designated housing entities (TDHEs) established by federally recognized Indian tribes as a result of the exercise of the tribe's sovereign power are excluded from coverage of the Byrd Amendment, but state-recognized Indian tribes and TDHEs established only under State law must comply with this requirement. Applicants must submit the SF-LLL if they have used or intend to use Federal funds for lobbying activities.

j. Debarment and Suspension. In accordance with 24 CFR part 24, no award of Federal funds may be made to applicants that are presently debarred or suspended, or proposed to be debarred or suspended from doing business with the Federal Government.

3. Other Threshold Requirements. The individual program NOFAs for which you are applying may specify other threshold requirements. Additional threshold requirements may be identified in the discussion of “eligibility” requirements in the individual program NOFAs. If a program NOFA requires a certification of consistency with the Consolidated Plan and the applicant fails to provide a certification, and such failure is not cured as a technical deficiency, HUD will not fund the application. If HUD is provided a signed certification indicating consistency with the area's approved Consolidated Plan and HUD finds that the activities are not consistent with the Consolidated Plan, HUD will not fund the inconsistent activities or will deny funding the application if a majority of the activities are not consistent with the approved Consolidated Plan. The determination not to fund an activity or to deny funding may be determined by a number of factors, including the number of activities being proposed, the impact of the elimination of the activities on the proposal, or the percent of the budget allocated to the proposed activities.

4. Additional Nondiscrimination and Other Requirements

Applicants and their subrecipients must comply with:

a. Civil Rights Laws, including the Americans with Disabilities Act of 1990 (42 U.S.C. 1201 et seq.), the Age Discrimination Act of 1974 (42 U.S.C. 6101 et seq.), and Title IX of the Education Amendments Act of 1972 (20 U.S.C. 1681 et seq.).

b. Affirmatively Furthering Fair Housing. Under Section 808(e)(5) of the Fair Housing Act, HUD has a statutory duty to affirmatively further fair housing. HUD requires the same of its funding recipients. If you are a successful applicant, you will have a duty to affirmatively further fair housing opportunities for classes protected under the Fair Housing Act. Protected classes include race, color, national origin, religion, sex, disability, and familial status. Unless otherwise instructed in the individual program NOFA, your application must include specific steps to:

(1) Overcome the effects of impediments to fair housing choice that were identified in the jurisdiction's Analysis of Impediments (AI) to Fair Housing Choice;

(2) Remedy discrimination in housing; or

(3) Promote fair housing rights and fair housing choice.

Further, you, the applicant, have a duty to carry out the specific activities provided in your responses to the individual program NOFA rating factors that address affirmatively furthering fair housing. These requirements apply to all HUD programs announced via a NOFA, unless specifically excluded in the individual program NOFA.

c. Economic Opportunities for Low- and Very Low-Income Persons (Section 3). Certain programs to be issued during FY2006 require recipients of assistance to comply with Section 3 of the Housing and Urban Development Act of 1968 (Section 3), 12 U.S.C. 1701u (Economic Opportunities for Low- and Very Low-Income Persons in Connection with Assisted Projects), and the HUD regulations at 24 CFR part 135, including the reporting requirements at subpart E. Section 3 requires recipients to ensure that, to the greatest extent feasible, training, employment, and other economic opportunities will be directed to low- and very-low income persons, particularly those who are recipients of government assistance for housing, and business concerns that provide economic opportunities to low- and very low-income persons. Review the individual program NOFAs to determine if Section 3 applies to the program for which you are seeking funding.

d. Ensuring the Participation of Small Businesses, Small Disadvantaged Businesses, and Women-Owned Businesses. HUD is committed to ensuring that small businesses, small disadvantaged businesses, and women-owned businesses participate fully in HUD's direct contracting and in contracting opportunities generated by HUD financial assistance. Too often, these businesses still experience difficulty in accessing information and successfully bidding on Federal contracts. State, local, and tribal governments are required by 24 CFR 85.36(e) and nonprofit recipients of assistance (grantees and sub-grantees) by 24 CFR 84.44(b) to take all necessary affirmative steps in contracting for the purchase of goods or services to assure that minority firms, women's business enterprises, and labor surplus area firms are used whenever possible or as specified in the individual program NOFAs.

e. Relocation. The relocation requirements of the Uniform Relocation Assistance and Real Property Acquisition Policies Act of 1970 (URA), as amended, and the implementing government-wide regulation at 49 CFR part 24, cover any person who moves permanently from real property or moves personal property from real property as a direct result of acquisition, rehabilitation, or demolition for a program or project receiving HUD assistance. While there are no statutory provisions for “temporary relocation” under the URA, the URA regulations recognize that there are circumstances where a person will not be permanently displaced but may need to be moved from a project for a short period of time. Appendix A, § 24.2(a)(9)(ii)(D) to the URA regulation explains that any tenant who has been temporarily relocated for a period beyond one year must be contacted by the displacing agency and offered URA relocation assistance. Some HUD program regulations provide additional protections for temporarily relocated tenants. For example, 24 CFR 583.310(f)(1) provides guidance on temporary relocation for the Supportive Housing Program for the homeless. Before planning their project, applicants should review the regulations for the programs for which they are applying. The URA does not apply to displacements resulting from the demolition or disposition of public housing covered by Section 18 of the United States Housing Act of 1937.

f. Executive Order 13166, “Improving Access to Services for Persons with Limited English Proficiency (LEP).” Executive Order 13166 seeks to improve access to federally assisted services, programs, and benefits for individuals with limited English proficiency. Applicants obtaining an award from HUD must seek to provide access to program benefits and information to LEP individuals through translation and interpretive services in accordance with LEP guidance published on December 19, 2003 (68 FR 70968). For assistance and information regarding your LEP obligation, go to http://www.lep.gov.

g. Executive Order 13279, “Equal Protection of the Laws for Faith-Based and Community Organizations.” HUD is committed to full implementation of Executive Order 13279. The Executive Order established fundamental principles and policymaking criteria to guide Federal agencies in formulating and developing policies that have implications for faith-based and community organizations to ensure the equal protection for these organizations in social services programs receiving Federal financial assistance. Consistent with this order, HUD has undertaken a review of all policies and regulations that have implications for faith-based and community organizations and has established a policy priority to provide full and equal access to grassroots faith-based and other community-based organizations in HUD program implementation. HUD revised its program regulations in 2003 and 2004 to remove the barriers to participation of faith-based organizations in HUD funding programs (68 FR 56396, September 30, 2003), (69 FR 41712, July 9, 2004), and (69 FR 62164, October 22, 2004). Copies of the regulatory changes can be found at http://www.hud.gov/offices/adm/grants/fundsavail.cfm.

h. Accessible Technology. Section 508 of the Rehabilitation Act (Section 508) requires HUD and other Federal departments and agencies to ensure, when developing, procuring, maintaining or using electronic and information technology (EIT), that the EIT allow, regardless of the type of medium of technology, persons with disabilities access to and use of information and data on a comparable basis as is made available to and used by persons without disabilities. Section 508's coverage includes, but is not limited to, computers (hardware, software, word processing, email, and Internet sites), facsimile machines, copiers, and telephones. Among other things, Section 508 requires that unless an undue burden would result to the Federal department or agency, electronic and information technology must allow individuals with disabilities who are employees or members of the public seeking information or services, to have access to and use of information and data that are comparable to that of employees and members of the public who are not disabled. Where an undue burden exists to the Federal department or agency, alternative means may be used to allow a disabled individual use of the information and data. Section 508 does not require that information services be provided at any location other than a location at which the information services are generally provided. HUD encourages its funding recipients to adopt the goals and objectives of Section 508 by ensuring, whenever EIT is used, procured, or developed, that persons with disabilities have access to and use of the information and data made available through the EIT on a comparable basis as is made available to and used by persons without disabilities. This does not affect recipients' required compliance with Section 504 of the Rehabilitation Act and, where applicable, the Americans with Disabilities Act.

i. Procurement of Recovered Materials. State agencies and agencies of a political subdivision of a State that are using assistance under a HUD program NOFA for procurement, and any person contracting with such an agency with respect to work performed under an assisted contract, must comply with the requirements of Section 6002 of the Solid Waste Disposal Act, as amended by the Resource Conservation and Recovery Act.

In accordance with Section 6002, these agencies and persons must procure items designated in guidelines of the Environmental Protection Agency (EPA) at 40 CFR part 247 that contain the highest percentage of recovered materials practicable, consistent with maintaining a satisfactory level of competition, where the purchase price of the item exceeds $10,000 or the value of the quantity acquired in the preceding fiscal year exceeded $10,000; must procure solid waste management services in a manner that maximizes energy and resource recovery; and must have established an affirmative procurement program for procurement of recovered materials identified in the EPA guidelines.

j. Participation in HUD-Sponsored Program Evaluation. As a condition of the receipt of financial assistance under a HUD program NOFA, all successful applicants will be required to cooperate with all HUD staff or contractors who perform HUD-funded research or evaluation studies.

k. Executive Order 13202, “Preservation of Open Competition and Government Neutrality Towards Government Contractors' Labor Relations on Federal and Federally Funded Construction Projects.” Compliance with HUD regulations at 24 CFR 5.108 that implement Executive Order 13202 is a condition of receipt of assistance under a HUD program NOFA.

l. Salary Limitation for Consultants. FY2006 funds may not be used to pay or to provide reimbursement for payment of the salary of a consultant whether retained by the Federal government or the grantee at more than the daily equivalent of the rate of the high of the pay band paid for level IV of the Executive Schedule, unless specifically authorized by law.

m. OMB Circulars and Government-wide Regulations Applicable to Financial Assistance Programs. Certain OMB Circulars also apply to HUD programs in this SuperNOFA. The policies, guidance, and requirements of OMB Circulars A-87 (Cost Principles Applicable to Grants, Contracts and Other Agreements with State and Local Governments), A-21 (Cost Principles for Education Institutions), A-122 (Cost Principles for Nonprofit Organizations), A-133 (Audits of States, Local Governments, and Non-Profit Organizations), and the regulations at 24 CFR part 84 (Grants and Agreements with Institutions of Higher Education, Hospitals, and other Non-Profit Organizations), and 24 CFR part 85 (Administrative Requirements for Grants and Cooperative Agreements to State, Local, and Federally Recognized Indian Tribal Governments), may apply to the award, acceptance, and use of assistance under the individual program NOFAs of this SuperNOFA, and to the remedies for noncompliance, except when inconsistent with the provisions of HUD's appropriations act for FY2006, other Federal statutes or regulations, or the provisions of this General Section. Compliance with additional OMB circulars or government-wide regulations may be specified for a particular program in the NOFA Program Section of the SuperNOFA. Copies of the OMB circulars may be obtained from EOP Publications, New Executive Office Building, Room 2200, Washington, DC 20503, telephone (202) 395-3080 (this is not a toll-free number) or (800) 877-8339 (toll-free TTY Federal Information Relay Service) or from the Web site at http://www.whitehouse.gov/omb/circulars/index.html.

n. Environmental Requirements. If you become a recipient under one of HUD's programs that assist in physical development activities or property acquisition, you are generally prohibited from acquiring, rehabilitating, converting, demolishing, leasing, repairing, or constructing property or committing or expending HUD or non-HUD funds for these types of program activities, until one of the following has occurred:

(1) HUD has completed an environmental review in accordance with 24 CFR part 50; or

(2) For programs subject to 24 CFR part 58, HUD has approved a recipient's Request for Release of Funds (Form HUD-7015.15) following a Responsible Entity's completion of an environmental review.

You, the applicant, should consult the individual program NOFA for any program for which you are interested in applying to determine the procedures for, timing of, and any exclusions from environmental review under a particular program. For applicants applying for funding under the Section 202 Supportive Housing for the Elderly program or Section 811 Supportive Housing for Persons with Disabilities program, please note the environmental review requirements for these programs.

o. Conflicts of Interest. If you are a consultant or expert who is assisting HUD in rating and ranking applicants for funding under this General Section or future NOFAs published in FY2006, you are subject to 18 U.S.C. 208, the Federal criminal conflict of interest statute, and the Standards of Ethical Conduct for Employees of the Executive Branch regulation published at 5 CFR part 2635. As a result, if you have assisted or plan to assist applicants with preparing applications for programs in the SuperNOFA or NOFAs published in FY2006, you may not serve on a selection panel and you may not serve as a technical advisor to HUD. Persons involved in rating and ranking HUD FY2006 NOFAs, including experts and consultants, must avoid conflicts of interest or the appearance of conflicts. Persons involved in rating and ranking applications must disclose to HUD's General Counsel or HUD's Ethics Law Division the following information, if applicable: How the selection or non-selection of any applicant under the FY2006 SuperNOFA will affect the individual's financial interests, as provided in 18 U.S.C. 208, or how the application process involves a party with whom the individual has a covered relationship under 5 CFR 2635.502. The person must disclose this information before participating in any matter regarding a FY2006 NOFA. If you have questions regarding these provisions or concerning a conflict of interest, you may call the Office of General Counsel, Ethics Law Division, at (202) 708-3815 (this is not a toll-free number).

p. Drug-Free Workplace. Applicants awarded funds from HUD are required to provide a drug-free workplace. Compliance with this requirement means that the applicant will:

(1) Publish a statement notifying employees that it is unlawful to manufacture, distribute, dispense, possess, or use a controlled substance in the applicant's workplace and that such activities are prohibited. The statement must specify the actions that will be taken against employees for violation of this prohibition. The statement must also notify employees that, as a condition of employment under the Federal award, they are required to abide by the terms of the statement and that each employee must agree to notify the employer in writing of any violation of a criminal drug statute occurring in the workplace no later than 5 calendar days after such violation;

(2) Establish an ongoing drug-free awareness program to inform employees about:

(a) The dangers of drug abuse in the workplace;

(b) The applicant's policy of maintaining a drug-free workplace;

(c) Any available drug counseling, rehabilitation, or employee maintenance programs; and

(d) The penalties that may be imposed upon employees for drug abuse violations occurring in the workplace;

(3) Notify the Federal agency in writing within 10 calendar days after receiving notice from an employee of a drug abuse conviction or otherwise receiving actual notice of a drug abuse conviction. The notification must be provided in writing to HUD's Office of Departmental Grants Management and Oversight, Department of Housing and Urban Development, 451 Seventh Street, SW., Room 3156, Washington, DC 20410-3000, along with the following information:

(a) The program title and award number for each HUD award covered;

(b) The HUD staff contact name, phone, and fax numbers and

(c) A grantee contact name, phone, and fax number; and

(4) Require that each employee engaged in the performance of the federally funded award be given a copy of the drug-free workplace statement required in item (1) and notify the employee that one of the following actions will be taken against the employee within 30 calendar days of receiving notice of any drug abuse conviction:

(a) Institution of a personnel action against the employee, up to and including termination consistent with requirements of the Rehabilitation Act of 1973, as amended; or

(b) Imposition of a requirement that the employee participate satisfactorily in a drug abuse assistance or rehabilitation program approved for such purposes by a Federal, State, or local health, law enforcement, or other appropriate agency.

q. Safeguarding Resident/Client Files. In maintaining resident and client files, HUD funding recipients shall observe State and local laws concerning the disclosure of records that pertain to individuals. Further, recipients are required to adopt and take reasonable measures to ensure that resident and client files are safeguarded.

IV. Application and Submission Information

A. Addresses To Request Application Package

This section describes how applicants may obtain application forms, additional information about the HUD program NOFAs, and technical assistance. Copies of the published NOFAs and application forms for HUD programs announced through NOFAs may be downloaded from the Grants.gov Web site at http://www.grants.gov/FIND and chosen from links provided under the topic “Search Grant Opportunities,” which allows applicants to do a basic search or to browse by category or agency. Applicants having difficulty accessing the information may receive customer support from Grants.gov by calling its help line at (800) 518-GRANTS or sending an e-mail to support@grants.gov. The customer service representatives will assist applicants in accessing the information. Applicants that do not have Internet access that need to obtain a copy of a NOFA can contact HUD's NOFA Information Center toll-free at (800) HUD-8929. Persons with hearing or speech impairments may also call toll-free at (800) HUD-2209.

1. Application Kits

There are no application kits for HUD programs. All the information you need to apply will be in the NOFA and available at http://www.grants.gov/Apply. The NOFAs and forms can be downloaded from http://www.grants.gov/Apply, by clicking on Apply Step 1. Please pay attention to the submission requirements and format for submission specified in each program NOFA to ensure that you have submitted all required elements of your application.

2. Official NOFA Content Retrieval

In order to retrieve the instructions, applicants must go to the Grants.gov Web site entitled “Download Application Package” at https://apply.grants.gov/forms_apps_idx.html. Insert the Catalog of Federal Domestic Assistance (CFDA) number or the Funding Competition ID, or the Funding Opportunity Number. Once this information has been inserted, click on the “Download Package” button. The next page on the Web site, “Selected Grant Application for Download,” instructs applicants to download the application and its instructions by selecting the corresponding download link and saving the files to the applicant's computer for future reference and use. You do not need to be registered to read the instructions or complete the application once you have downloaded it and saved it on your computer.

a. Instructions and Application Download Contents. The instructions download will contain several files, the General Section, the Program Section, and any other forms that are not part of the Application Download. The Application Download will contain a cover page entitled “Grant Application Package.” The cover page provides information regarding the application package you have chosen to download, i.e., Opportunity Title, Agency Name, CFDA Number, etc., so that you can ensure that you have selected the correct application to prepare. The Grant Application cover page separates the required forms into two categories: “Mandatory Documents” and “Optional Documents.” Please note that regardless of the box in which the forms are listed, the published Federal Register document is the official document HUD uses to solicit applications. Therefore, applicants should follow the submission requirements in the published NOFA for the program in which they are applying for funding. The Program NOFA will contain a list of forms and other documents that are part of the submission. The NOFA will also identify which forms may be applicable to only certain applicants and if so, they need to be submitted with the application.

b. The published Federal Register document is the official document that HUD uses to solicit applications. Therefore, if there is a discrepancy between any materials published by HUD in its Federal Register publications and other information provided in paper copy, electronic copy, or at http://www.grants.gov, the Federal Register publication prevails. Please be sure to review your application submission against the requirements in the Federal Register file for the program NOFA or NOFAs to which you are applying. By accessing the information via Grants.gov you will not have to wait for copies of the NOFAs or forms to begin to prepare your application. HUD is continuing to streamline programs and application submission requirements and encourages applicants to provide HUD with additional suggestions.

3. Guidebook and Further Information

A guidebook to HUD programs entitled, “Connecting with Communities: A User's Guide to HUD Programs and the FY2006 NOFA Process,” is available from the HUD NOFA Information Center and the HUD Web site at http://www.hud.gov/offices/adm/grants/fundsavail.cfm. The guidebook provides a brief description of all HUD programs, identifies eligible applicants for the programs, and provides examples of how programs can work in combination to serve local community needs. You can also obtain a copy from the NOFA Information Center by calling (800) HUD-8929. The hearing impaired may call (800) HUD-2209 (TTY) (both are toll-free numbers). The NOFA Information Center is open between the hours of 10 a.m. to 6:30 p.m. eastern time, Monday through Friday, except on Federal holidays. The NOFA Information Center will open with the publication of this Notice.

4. Technical Assistance

HUD staff will be available to provide you with general guidance and technical assistance about this notice or about individual program NOFAs. However, HUD staff is not permitted to help prepare your application. Following selection of applicants, but before announcement of awards are made, HUD staff is available to assist in clarifying or confirming information that is a prerequisite to the offer of an award or annual contributions contract (ACC) by HUD. For technical support for downloading an application or submitting an application, please call Grants.gov Customer Support at (800) 518-GRANTS (this is a toll-free number) or send an e-mail to support@grants.gov.

5. SuperNOFA Webcasts

HUD provides technical assistance and training on its programs announced through NOFAs. The NOFA broadcasts are interactive and allow potential applicants to obtain a better understanding of the threshold, program, and application submission requirements for funding. Participation in this training opportunity is free of charge and can be accessed via HUD's Web site at http://www.hud.gov/offices/adm/grants/fundsavail.cfm. The SuperNOFA Webcast schedule can also be found via HUD's Web site at http://www.hud.gov/webcasts/index.cfm.

B. Content and Form of Application Submission

Be sure to read and follow the application submission requirements published in each individual program NOFA for which you are submitting an application.

1. Forms

Each program NOFA will identify all the required forms for submission. HUD's standard forms are identified below:

a. Application for Federal Assistance (SF-424);

b. Survey on Ensuring Equal Opportunity for Applicants (SF-424 Supplement);

c. Grant Application Detailed Budget (HUD-424-CB);

d. Grant Application Detailed Budget Worksheet (HUD-424-CBW);

e. Disclosure of Lobbying Activities (SF-LLL), if applicable;

f. Applicant/Recipient Disclosure/Update Report (HUD-2880);

g. Certification of Consistency with RC/EZ/EC-II Strategic Plan (HUD-2990), if applicable;

h. Certification of Consistency with the Consolidated Plan (HUD-2991), if applicable;

i. Acknowledgment of Application Receipt (HUD-2993);

j. You Are Our Client Grant Applicant Survey (HUD 2994-A) (Optional);

k. Program Outcome Logic Model (HUD-96010);

l. Race and Ethnic Data Reporting Form (HUD-27061), if applicable;

m. America's Affordable Communities Initiative (HUD-27300), if applicable; and

n. Facsimile Transmittal (HUD-96011).

Copies of these forms are available at HUD's Web site at http://www.hud.gov/offices/adm/grants/nofa06/snofaforms.cfm. Any additional program form required to be submitted to meet specific program requirements is included with each program NOFA. The electronic instructions contain all forms required for submission that are not PureEdge™ forms. The application download contains only the PureEdge™ forms. To have all the forms needed for application submission, applicants must download the instructions as well as the application.

2. Certifications and Assurances

The form SF-424-B, Assurances and Certifications, is no longer required as a separate submission. However, applicants are placed on notice that by signing the SF-424 cover page:

a. The governing body of the applicant's organization has duly authorized the application for Federal assistance. In addition, by signing or electronically submitting the application, the Authorized Organization Representative (AOR) certifies that the applicant:

(1) has the legal authority to apply for Federal assistance and the institutional, managerial, and financial capacity (including funds to pay for any non-Federal share of program costs) to plan, manage, and complete the program as described in the application;

(2) will provide HUD any additional information it may require; and

(3) will administer the award in compliance with requirements identified and contained in the NOFA (General and Program Sections) as applicable to the program for which funds are awarded and in accordance with requirements applicable to the program.

b. No appropriated Federal funds have been paid or will be paid, by or on behalf of the applicant, to any person for influencing or attempting to influence an officer or employee of any agency, a member of Congress, or an employee of a member of Congress, in connection with this application for Federal assistance or any award of funds resulting from the submission of this application for Federal assistance or its extension, renewal, amendment, or modification. If funds other than Federal appropriated funds have been or will be paid for influencing or attempting to influence the persons listed above, the applicant agrees to complete and submit Standard Form LLL, Disclosure of Lobbying Activities, as part of its application submission package. The applicant further agrees to and certifies that it will require all subawards at all tiers including subgrants and contracts to similarly certify and disclose accordingly.

c. Federally recognized Indian tribes and tribally designated housing entities (TDHEs) established by a federally recognized Indian tribe, as a result of the exercise of the tribe's sovereign power, are excluded from coverage by item b. (also known as the Byrd Amendment). However, State-recognized Indian tribes and TDHEs established under State law are not excluded from the statute's coverage and therefore agree to, and must comply with, item b. above.

By submitting an application, the applicant affirms its awareness of these certifications and assurances. The Authorized Organization Representative submitting the application is affirming that these certifications and assurances are material representations of the facts upon which HUD will rely when making an award to the applicant. If it is later determined that the signatory to the application submission knowingly made a false certification or assurance or did not have the authority to make a legally binding commitment for the applicant, the applicant may be subject to criminal prosecution, and HUD may terminate the award to the applicant organization or pursue other available remedies.

C. Deadline Dates and Times

Applications submitted through Grants.gov must be received and validated by Grants.gov no later than 11:59:59 p.m. eastern time on the application deadline date. Important Submission Tip: Please be aware that when submitting an application via Grants.gov, you will first receive a confirmation notice that Grants.gov received the application. The application will then go through a validation process. If the validation process finds problems with the application, it will be rejected and unavailable for retrieval by HUD. The validation check ensures that:

1. The application is virus free;

2. The application meets the deadline requirements established for the funding opportunity;

3. The DUNS number submitted on the application matches the DUNS number in the registration, and that the Authorized Organization Representative has been authorized to submit the application for funding by the organization identified by its DUNS number; and

4. All the mandatory fields and forms were completed on the application.

5. Upload the application using Internet Explorer or Netscape browsers.

If the application fails any of these items on the validation check, the application will be rejected. The validation check occurs 24 to 48 hours after the application submission. Therefore, HUD recommends that all applicants submit their application no later than 48 to 72 hours before the deadline. That way, if the application fails the validation process, the applicant will receive an e-mail notification providing the error messages. By submitting 48 to 72 hours in advance of the deadline, applicants have time to cure deficiencies in their application and resubmit it in time to meet deadline requirements. In developing the application submission dates, HUD has considered the validation process and established due dates for all NOFAs that build in the additional time for the validation process. For example, if HUD previously provided a 60-day application period, HUD will provide a 63-day application period in FY2006.

D. Intergovernmental Review

Executive Order 12372, “Intergovernmental Review of Federal Programs,” was issued to foster intergovernmental partnership and strengthen federalism by relying on State and local processes for the coordination and review of Federal financial assistance and direct Federal development. HUD implementing regulations are published at 24 CFR part 52. The order allows each State to designate an entity to perform a State review function. Applicants can find the official listing of State Points of Contact (SPOC) for this review process at http://www.whitehouse.gov/omb/grants/spoc.html. States not listed on the Web site have chosen not to participate in the intergovernmental review process and, therefore, do not have a SPOC. If your State has a SPOC, you should contact the SPOC to see if it is interested in reviewing your application before submission to HUD.

Please make sure that you allow ample time for this review when developing and submitting your applications. If your State does not have a SPOC, you can submit your application directly to HUD using Grants.gov.

E. Funding Restrictions

The individual program NOFAs will describe any funding restrictions that apply to each program.

F. Other Submission Requirements

Application Submission and Receipt Procedures. This section provides the application submission and receipt instructions for HUD program applications. Please read the following instructions carefully and completely, as failure to comply with these procedures may disqualify your application.

1. Electronic Submission of Applications

Applicants must submit their applications electronically through Grants.gov. HUD described the Grants.gov registration process in its Early Grants.gov Registration notice published in the Federal Register on December 9, 2005 (70 FR 73332), and in other information available at http://www.grants.gov/GetStarted. The site provides registration checklists that applicants are advised to use, to ensure that they have all the information they need to complete all the steps in the registration process. Past applicants have found that the checklists made their registration easier and faster.

There are five sequential steps required for an applicant to complete the Grants.gov registration process:

a. Step one is to call Dun and Bradstreet and request a Dun and Bradstreet Universal Data Numbering System (DUNS) number for the organization (if it does not already have one), as described above. The DUNS number is used by the Federal Government to identify the organization. Organizations should be able to obtain a DUNS number on the same date they contact Dun and Bradstreet by phone (866) 705-5711 (this is a toll-free number).

b. Step two is to register with the Central Contractor Registry (CCR) either toll-free by telephone ((888) 227-2423) or by going online at http://www.ccr.gov. When an organization registers with the CCR, the organization will be required to designate an E-Business Point of Contact (E-Business POC). The E-Business POC will designate a special password called an “M-PIN.” The password gives the E-Business POC sole authority to designate which staff member(s) from the organization will be allowed to submit applications electronically on its behalf. Staff members that are designated by the organization's E-Business POC to submit applications on its behalf are called Authorized Organization Representatives (AORs). Registering with the CCR is required for an organization to be able to use Grants.gov. It takes 1 to 3 days to complete this process because security information has to be sent to the organization.

Note that CCR registration expires on an annual basis and, therefore, it must be updated to remain active. The CCR will send the E-Business POC an e-mail message 30 days before the expiration date of their current registration. If the E-Business POC does not update the CCR registration by the expiration date, the CCR will send the organization a letter notifying it that its account has been deactivated.

c. Step three requires that AORs from the organization register with the Credential Provider to obtain their username and password, via the Web site, https://apply.grants.gov/OrcRegister. The AOR usernames and passwords serve as “electronic signatures” when an AOR submits an application via Grants.gov on behalf of an organization. AORs must wait until after their organization has received registration confirmation from the CCR before they can obtain their user names and passwords. AORs designate their user name and password when registering with a credential provider. AORs will receive validation of their user names and passwords on the same day that they submit the information online.

d. Step four requires the AORs to register with Grants.gov. AORs must register with Grants.gov to obtain an account at the Web site, https://apply.grants.gov/GrantsgovRegister. AOR registration with Grants.gov allows AORs to submit applications on behalf of the organization and to track the status of submitted applications.

e. Step five requires the E-Business POC to approve the designated AORs. When an AOR registers with Grants.gov (step 4), the E-Business POC will receive an e-mail notification. The E-Business POC must subsequently log into Grants.gov (using the organization's DUNS number as the user name and the M-PIN as the password) and approve the AOR(s), thereby giving each approved AOR permission to electronically submit applications on behalf of the organization using Grants.gov. Only the organization's E-Business POC can approve AORs. After the E-Business POC approves an AOR, Grants.gov will send the AOR confirmation of the approval via e-mail. See HUD's Notice on Early Registration for complete details of the registration process and steps.

2. Important Registration Tips

a. The registration process is distinct from application submission and encompasses five-steps that can take approximately 10 business days to complete. Therefore, applicants must allow sufficient time to complete their registration prior to submitting their application. Applicants can submit their application to Grants.gov once they are fully registered. Please note that the Internal Revenue Service takes approximately 5 weeks to provide a new organization with a Tax Identification Number (TIN) or Employer Identification Number (EIN). You will need a TIN or EIN to register in the CCR. Please allow sufficient time to obtain the TIN or EIN if you currently do not have one for your organization, as you will need the number to complete the registration process in CCR.

b. Applicants must remember the password and ID they are provided during the registration process. Passwords and IDs are case sensitive. Forgetting your password or ID could delay the timely submission of your application.

c. Applicants must register and the E-Business Point of Contact must authorize the individual(s) who will be submitting the application on behalf of the organization. By authorizing the person to submit on behalf of the organization, the organization is stating that the person can make a legally binding commitment for the organization.

3. Instructions On How To Submit an Electronic Application to HUD via http://www.grants.gov/Apply

a. Complete Application Package. Grants.gov has a full set of instructions on how to complete a grant application on its Web site at http://www.grants.gov/CompleteApplication. Applicants are encouraged to read the “Complete Application Package” Web site. The site contains a multimedia demonstration that guides applicants through the process of completing an application package. The training demonstration is also available in text format on the Web site. Grants.gov allows applicants to download the application package, application instructions, and forms incorporated in the instructions and work off-line. In addition to forms that are part of the application instructions downloaded from Grants.gov, there are a series of electronic forms that use a PureEdge™ Reader. The PureEdge™ Reader is available free for download from Step 2 of http://www.grants.gov/Get Started. Grants.gov has an updated version of the PureEdge Viewer (version 6.2). If applicants have not upgraded their version of the PureEdge viewer, they must do so before downloading the application package. The PureEdge™ Reader allows applicants to read the electronic files in a form format so that they will look like any other Standard or HUD form. The PureEdge™ forms have content-sensitive help. To use this feature, click on the icon that features an arrow with a question mark at the top of the page. This engages the content-sensitive help for each field on the electronic form. The PureEdge™ forms can be downloaded and saved on your hard drive, network drive(s), or CDs. Because of the size of the application, HUD recommends downloading the application to your computer hard drive.

The instructions include the General and Program NOFA sections of the Federal Register publication and required forms that have not been converted to a PureEdge™ form. Each program NOFA also includes a checklist. Please review the checklist in the program section to ensure that your application contains all the required materials.

MacIntosh users will need to use the Virtual PC emulator software, which allows PC software to run on MacIntosh platforms. More information on PureEdge™ Support for MacIntosh Users is available at http://www.grants.gov/CompleteApplication#, located under the topic Tips and Tools. Grants.gov is in the process of upgrading its system to allow MacIntosh users to be able to view PureEdge forms. The new feature will be issued shortly. Please check the Grants.gov Web site for the announcement of this additional feature.

b. Mandatory Fields on PureEdge™ Forms. In the PureEdge™ forms, you will find fields with a yellow background. These data fields are mandatory and must be completed.

c. Completion of SF-424 Fields First. The PureEdge™ forms are designed to automatically populate common data such as the applicant name and address, DUNS number, etc., on all PureEdge™ electronic forms. In order to trigger this function, the Standard Form 424 (SF-424) must be completed first. Once applicants complete the SF-424, the information entered will transfer to the other forms.

d. Submission of Narrative Statements, Third Party Letters, and Certifications. In addition to forms, many of the NOFAs require the submission of other documentation, such as third party letters, certifications, or program narrative statements. This section discusses how you should submit this additional information electronically as part of your application:

(1) Narrative Statements to the Factors for Award. If you are required to submit narrative statements, you must submit them as an electronic file in Microsoft Word (version 9 or earlier), Microsoft Excel 2000, or in Portable Document Format (PDF) that is compatible with Adobe™ Reader version 6.0 or earlier. If HUD receives a file in a format other than those specified, HUD will not be able to read the file, and it will not be reviewed. Each response to a Factor for Award should be clearly identified and can be incorporated into a single attachment or all attachments zipped together into a single attached file. Program NOFAs may specify if they want the files submitted separately or as a single attachment file, so please carefully review the program NOFA requirements for submission format when they are published. Documents that applicants possess in electronic format, e.g., narratives they have written, or graphic images (such as Computer Aided Design (CAD) files from an architect), must be attached using the “Attachments” form included in the application package downloaded from Grants.gov. In order to reduce the size of its attachments, applicants can compress all or several files using a ZIP utility. Applicants can then attach the zipped file as described above.

(2) Third Party Letters, Certifications Requiring Signatures, and Other Documentation. Applicants required to submit third party documentation (e.g., establishing matching or leveraged fund, documentation of 501(c)(3) status or incorporation papers, documents that support the need for the program, memoranda of understanding (MOUs), or program required documentation that supports your organization's claims regarding work that has been done to remove regulatory barriers to affordable housing) can choose from the following two options, as a way to provide HUD with the documentation:

(a) Scanning Documents to Create Electronic Files. Scanning documents increases the size of files. Applicants may not submit scanned files unless the facsimile solution described below will not work due to the nature of the document. Electronic files must be labeled so that the recipient at HUD will know what the file contains. Program NOFAs will indicate any naming conventions that applicants must use when submitting files using the attachment form.

(b) Faxing Required Documentation. Applicants may submit the required documentation to HUD by facsimile. Applicants may only use the fax method to submit attachments that are part of their electronic applications. HUD will not accept entire applications by fax. HUD will disqualify applications submitted entirely by fax.

Facsimiles submitted in response to a NOFA must use the form HUD-96011. The transmittal form to be downloaded with the application can be found on Grants.gov. The transmittal form found in the downloaded application contains a unique identifier that allows HUD to match an applicant's application submitted via Grants.gov with faxes coming from a variety of sources. Therefore, for HUD to correctly match a fax to a particular application, the applicant must use and require third parties that fax documentation on its behalf to use the form HUD-96011 as the cover page of the facsimile. Using the form HUD-96011 will ensure that HUD can electronically read faxes submitted by and on behalf of an applicant and match them to the applicant's application package received via Grants.gov.

When you download an application package from Grants.gov, be sure to save it to your hard drive, complete the SF-424, and then provide copies of the form HUD-96011 facsimile transmittal cover page to third parties that will submit information in support of your application. Do not download the same application package from Grants.gov more than once. Each time the application package is downloaded, the forms are given a unique ID number. To ensure that all the forms in your package contain the same unique ID number, after downloading your application complete the SF-424, save the forms to your hard drive, and use the saved forms to create your application. If you have to provide a copy of the form HUD-96011 to another party that will be responsible for faxing an item as part of your application, make a copy of the facsimile transmittal cover page from your downloaded application and provide that copy to the third party for use with the fax transmission. Please instruct third parties to use the form HUD-96011 that you have provided as a cover page when they submit information supporting your application using the facsimile method, because it contains the embedded ID number that is unique to your application submission. Applicants must fax their information, and third parties must fax information in support of an applicant's application, using the HUD-96011 facsimile transmittal cover page, to the following fax number: (800) HUD-1010. If you cannot access this 800 number or have problems, you may use (215) 825-8798 (this is not a toll-free number). Failure to use the form HUD-96011 as the cover page will create a problem in electronically matching your faxes to the application. If HUD is unable to match the faxes electronically due to an applicant's failure to follow these directions, HUD will not hand-match faxes to applications and not consider the faxed information in rating the application.

In addition, applicants must fax individual documents as separate submissions to avoid fax transmission problems. When faxing several documents, applicants must use the form HUD-96011 as the cover page for each document (e.g., Letter of Matching or Leveraging funds, Memorandum of Understanding, Certification of Consistency with the Consolidated Plan, etc.) Please be aware that faxing large documents at one time may result in transmission failures. Be sure to check the record of your transmission issued by the fax machine to ensure that your fax submission was completed “OK.” For large or long documents, HUD suggests that you divide the document into smaller sections for faxing purposes. Each time you fax a document that you have divided into smaller sections, you should indicate on the cover sheet the section number of the total number of sections that you submitted, (e.g., “Part 1 of 4 parts” or “pages 1-10 of 20 pages”).

Your facsimile machine should provide you with a record of whether HUD received your transmission. If you get a negative response or a transmission error, you should resubmit the document until you confirm that HUD has received your transmission. HUD will not acknowledge that it received a fax successfully. When HUD receives a fax electronically, HUD will electronically read it with an optical character reader and attach it to the application submitted through Grants.gov. Applicants and third parties submitting information in support of the applicant's application may submit information by facsimile transmissions at any time before the application deadline date. Applicants must ensure that the form HUD-96011 used to fax information matches their electronic application (i.e., is part of the application package downloaded from Grants.gov). All faxed materials must be received no later than 11:59:59 p.m. eastern time on the application deadline date. HUD will store the information and match it to the electronic application when HUD receives it from Grants.gov.

Facsimile Transmission Tip: Be sure to save your receipt of successful facsimile transmission as proof that the document was timely submitted to HUD. In cases where receipt may be in question, the transmittal receipt is your proof of timely receipt and successful submission.

(c) Submissions Using Other File Formats. If you are required to submit files in other formats such as CAD files of architectural drawings and blueprints, or pictures, you must attach these as electronic files in PDF format that is compatible with Adobe ™ Reader version 6.0 or earlier. The files should be part of the zipped folder that is attached and submitted with your application transmission.

e. Customer Support. The Grants.gov Web site provides customer support via (800) 518-GRANTS (this is a toll-free number) or via e-mail at support@grants.gov. The customer support center is open from 7 a.m. to 9 p.m. eastern time, Monday through Friday, except Federal holidays, to address Grants.gov technology issues. For technical assistance to program-related questions, contact the number listed in Section VII Agency Contact in the program NOFA you are applying for.

4. Timely Receipt Requirements and Proof of Timely Submission

a. Electronic Submission.

(1) All applications must be received and validated by Grants.gov by 11:59:59 p.m. eastern time on the application deadline date established for each program NOFA. If the application is not validated before the deadline date, it will not be considered as meeting the deadline requirements.

Important Submission Tip: Upon successful submission, an applicant will receive an e-mail notification confirming receipt and indicating the application is being validated and that the validation process will be completed in approximately 24 to 48 hours. If the application does not pass the validation check, it will be rejected and the applicant notified of the reason for the rejected application. Applicants should therefore not assume because Grants.gov received an application, that they have successfully submitted the application until they receive the validation notice. If a rejection notice is received, the applicant should review the reasons for rejection and, if time permits, correct the error(s) and resubmit the application in time to meet the deadline requirements.

(2) Proof of timely submission and validation is automatically recorded by Grants.gov. An electronic time stamp is generated within the system when the application has been successfully received and validated.

(3) An applicant will receive an acknowledgement of receipt and a tracking number from Grants.gov with the successful transmission of its application followed by the validation receipt. When the validated application is transmitted from Grants.gov to HUD, the applicant will receive an e-mail notification that the application was received by the funding agency. Applicants should print and file these receipts along with facsimile receipts for information provided by facsimile, as proof of timely submission. Applicants will be considered as meeting the deadline date requirements when Grants.gov has received and validated your application no later than the deadline date and time, and all fax transmissions have been received by the deadline date and time.

(4) Applications validated by Grants.gov after the established deadline date and time for the program will be considered late. HUD will not consider any late application submissions. Similarly, HUD will not consider information submitted by facsimile as part of the application if received by HUD after the established deadline date and time. Please take into account the transmission time required for submitting your application via the Internet and the time required to fax any related documents. HUD suggests that applicants submit their applications during the operating hours of the Grants.gov Support Desk so that, if there are questions concerning transmission, operators will be available to assist you through the process. Submitting your application during the Support Desk hours will also ensure that you have sufficient time for the application to complete its transmission before the application deadline.

(5) Applicants using dial-up connections should be aware that transmitting your application takes extra time before Grants.gov receives it. Grants.gov will provide either an error or a successfully received transmission message. The Grants.gov Support Desk reports that some applicants abort the transmission because they think that nothing is occurring during the transmission process. Please be patient and give the system time to process the application. Uploading and transmitting a large file, particularly electronic forms with associated eXtensible mark-up language (XML) schema, will take considerable time to process and be received by Grants.gov.

Important Submission Tip. When submitting an application electronically, applicants should take the following steps to speed up the transmission process:

• Close all other applications running on the computer used for the upload;

• Save the completed application to the desktop, checking to make sure that the file that you intend to submit is the complete and final version of your application;

• Open and view all attachment files to make sure they are the final versions of the attachments that you plan to submit. Check your system to make sure other versions are not still saved and delete old versions so you do not submit the wrong attachments in the application submission;

• Check the application for errors using the check application for errors button contained in the Grants.gov application; if errors are found, follow each error message and correct the error;

• Submit your application using Internet Explorer or Netscape browsers. Grants.gov has been tested using these browsers, and HUD has found easier transmission with these browsers than others;

• Transmission, even for very large applications, should be completed in a few minutes. Transmission should not take longer than an hour. If transmission takes longer, close down the application, and contact the Grants.gov help line, retaining the help desk ticket number for future reference. You may also use the submit tips available on the Grants.gov Web site;

• Submit the application to Grants.gov 48 to 72 hours in advance of the deadline to provide sufficient time to correct any validation errors noted and address any registration issues;

• If validation errors are reported, correct the validation errors and resubmit the application if it is prior to the deadline date; late applications will not be accepted by Grants.gov;

• If you are not sure what to do, call the Grants.gov help desk and retain the ticket number for future reference.

• Do not attempt to submit electronically if the computer you are using does not meet the minimum requirements for electronic submission. These requirements are listed on the Grants.gov Web site, as well as HUD's Web site;

• If you get an “MEC” error message, it is a Microsoft Configuration Error. Contact your software provider or your computer/information technology support desk to help you configure your system for the size files you are trying to upload. This is not a Grants.gov system issue, but rather an issue with your computer configuration.

b. Late applications, whether received electronically or in hard copy, will not receive funding consideration. HUD will not be responsible for directing or forwarding applications to the appropriate location. Applicants should pay close attention to these submission and timely receipt instructions, as they can make a difference in whether HUD will accept your application for funding consideration.

5. Waiver of Electronic Submission Requirements

For FY2006, the procedures for obtaining a waiver of the electronic submission requirement have changed. On December 29, 2005 (70 FR 77292), HUD published a final rule that established in 24 CFR 5.1005 the regulatory framework for HUD's electronic submission requirement, as well as the procedures for obtaining a waiver. Applicants seeking a waiver of the electronic submission requirement must request a waiver in accordance with 24 CFR 5.1005. If the waiver is granted, the applicable program office's response will include instructions on how, where, and how many hard copies of the paper application must be submitted. Applicants that are granted a waiver of the electronic submission requirement will not be afforded additional time to submit their applications. The deadlines for applications will remain as provided in the program section of the SuperNOFA and as per the final Appendix A to be published with the SuperNOFA program sections. As a result, applicants seeking a waiver of the electronic application submission requirement should submit their waiver request with sufficient time to allow HUD to process and respond to the request. Applicants should also allow themselves sufficient time to submit their application so that HUD receives the application by the established deadline date. For this reason, HUD strongly recommends that an applicant that finds it is unable to submit its application electronically and must seek a waiver of the electronic grant submission requirement, submit its waiver request to the headquarters of the applicable HUD office approximately no later than 15 days before the application deadline date. This will allow time for HUD to process the waiver request and give the applicant sufficient time to submit the paper application to meet the deadline date requirement if the waiver is granted. To expedite the receipt and review of such requests, applicants may e-mail their requests to the program contact listed in the program NOFA. Applications that are received after the established deadline date will not be considered.

V. Application Review Information

A. Criteria

1. Factors for Award Used To Evaluate and Rate Applications

For each program NOFA, the points awarded for the rating factors total 100. Depending on the program for which you are seeking funding, the funding opportunity may provide up to four bonus points as provided below:

a. RC/EZ/EC-II. HUD will award two bonus points to each application that includes a valid form HUD-2990 certifying that the proposed activities/projects in the application are consistent with the strategic plan for an empowerment zone (EZ) designated by HUD or the U.S. Department of Agriculture (USDA), the tax incentive utilization plan for an urban or rural renewal community designated by HUD (RC), or the strategic plan for and enterprise community designated in round II by USDA (EZ-II), and that the proposed activities/projects will be located within the RC/EZ/EC-II identified above and are intended to serve the residents. For ease of reference in this notice, all of the federally designated areas are collectively referred to as “RC/EZ/EC-IIs” and residents of any of these federally designated areas as “RC/EZ/EC-II residents.” The individual funding announcements will indicate if the bonus points are available under the program. This notice contains a certification that must be completed for the applicant to be considered for RC/EZ/EC-II bonus points. Applicants can obtain a list of RC/EZ/EC-IIs from HUD's grants Web page at http://www.hud.gov/offices/adm/grants/fundsavail.cfm. Applicants can determine if their program or project activities is located in one of these designated areas by using the locator on HUD's Web site at http://egis.hud.gov/egis/.

b. Brownfields Showcase Communities. In the Brownfields Economic Development Initiative (BEDI) competition, two bonus points are available for federally designated Brownfields Showcase Communities. (Please see the FY2006 BEDI program NOFA, when published, for additional information.) The designation of Brownfields Showcase Communities is a Federal agency initiative sponsored by 20 Federal agencies, including HUD. A list of the federally designated Brownfields Showcase Communities is available at http://www.epa.gov/swerosps/bf/html-doc/showfact.htm.

c. The Five Standard Rating Factors for FY2006. HUD has established the following five standard factors for awarding funds under the majority of its FY2006 program NOFAs. Additional details about the five rating factors and the maximum points for each factor are provided in the program NOFAs. For a specific funding opportunity, HUD may modify these factors to take into account explicit program needs or statutory or regulatory limitations. Applicants should carefully read the factors for award as described in the program NOFA to which you are responding. The standard factors for award, except as modified in the program NOFAs, are listed below.

Factor 1: Capacity of the Applicant and Relevant Organizational Staff.

Factor 2: Need/Extent of the Problem.

Factor 3: Soundness of Approach.

Factor 4: Leveraging Resources.

Factor 5: Achieving Results and Program Evaluation.

The Continuum of Care Homeless Assistance programs have only two factors that receive points: Need and Continuum of Care.

B. Reviews and Selection Process

1. HUD's Strategic Goals To Implement HUD's Strategic Framework and Demonstrate Results

HUD is committed to ensuring that programs result in the achievement of HUD's strategic mission. To support this effort, grant applications submitted for HUD programs will be rated on how well they tie proposed outcomes to HUD's policy priorities and annual goals and objectives, as well as the quality of the applicant's proposed evaluation and monitoring plans. HUD's strategic framework establishes the following goals and objectives for the Department:

a. Increase Homeownership Opportunities.

(1) Expand national homeownership opportunities.

(2) Increase minority homeownership.

(3) Make the home-buying process less complicated and less expensive.

(4) Fight practices that permit predatory lending.

(5) Help HUD-assisted renters become homeowners.

(6) Keep existing homeowners from losing their homes.

b. Promote Decent Affordable Housing.

(1) Expand access to affordable rental housing.

(2) Improve the physical quality and management accountability of public and assisted housing.

(3) Increase housing opportunities for the elderly and persons with disabilities.

(4) Help HUD-assisted renters make progress toward self-sufficiency.

c. Strengthen Communities.

(1) Provide capital and resources to improve economic conditions in distressed communities.

(2) Help organizations access the resources they need to make their communities more livable.

(3) End chronic homelessness.

(4) Mitigate housing conditions that threaten health.

d. Ensure Equal Opportunity in Housing.

(1) Resolve discrimination complaints on a timely basis.

(2) Promote public awareness of fair housing laws.

(3) Improve housing accessibility for persons with disabilities.

e. Embrace High Standards of Ethics, Management, and Accountability.

(1) Rebuild HUD's human capital and further diversify its workforce.

(2) Improve HUD's management and its internal controls and systems, as well as resolve audit issues.

(3) Improve accountability, service delivery, and customer service of HUD and its partners.

(4) Ensure program compliance.

f. Promote Participation of Grassroots Faith-Based and Other Community-Based Organizations.

(1) Reduce regulatory barriers to participation by grassroots faith-based and other community-based organizations.

(2) Conduct outreach to inform potential partners of HUD opportunities.

(3) Expand technical assistance resources deployed to grassroots faith-based and other community-based organizations.

(4) Encourage partnerships between grassroots faith-based and other community-based organizations and HUD's traditional grantees.

Additional information about HUD's Strategic Plan FY 2003-FY 2008, and 2002-2005 Annual Performance Plans is available at http://www.hud.gov/offices/cfo/reports/cforept.cfm.

2. Policy Priorities

HUD encourages applicants to undertake specific activities that will assist the Department in implementing its policy priorities and achieving its goals for FY 2006 and beyond, when the majority of funding recipients will be reporting programmatic results and achievements. Applicants that include work activities that specifically address one or more of these policy priorities will receive higher rating scores than applicants that do not address these HUD priorities. Each NOFA issued in FY 2006 will specify which priorities relate to a particular program and how many points will be awarded for addressing those priorities.

a. Providing Increased Homeownership and Rental Opportunities for Low- and Moderate-Income Persons, Persons with Disabilities, the Elderly, Minorities, and Persons with Limited English Proficiency. Too often, these individuals and families are shut out of the housing market through no fault of their own. Often, developers of housing, housing counseling agencies, and other organizations engaged in the housing industry must work aggressively to open up the realm of homeownership and rental opportunities to low- and moderate-income persons, persons with disabilities, the elderly, minorities, and persons with limited English proficiency. Many of these families are anxious to have homes of their own, but are not aware of the programs and assistance that are available. Applicants are encouraged to address the housing, housing counseling, and other related supportive service needs of these individuals and coordinate their proposed activities with funding available through HUD's affordable housing programs and home loan programs.

Proposed activities support strategic goals a, b, and d.

b. Improving our Nation's Communities. HUD wants to improve the quality of life for those living in distressed communities. Applicants are encouraged to include activities that:

(1) Bring private capital into distressed communities;

(a) Finance business investments to grow new businesses;

(b) Maintain and expand existing businesses;

(c) Create a pool of funds for new small and minority-owned businesses; and

(d) Create decent jobs for low-income persons.

(2) Improve the environmental health and safety of families living in public and privately owned housing by including activities that:

(a) Coordinate lead hazard reduction programs with weatherization activities funded by State and local governments and the Federal Government; and

(b) Reduce or eliminate health related hazards in the home caused by toxic agents, such as molds and other allergens, carbon monoxide, and other hazardous agents and conditions.

(3) Make communities more livable by:

(a) Providing public and social services; and

(b) Improving infrastructure and community facilities.

Activities support strategic goals b, c, and d.

c. Encouraging Accessible Design Features. As described in Section III.C.2.c, applicants must comply with applicable civil rights laws, including the Fair Housing Act, Section 504 of the Rehabilitation Act of 1973, and the Americans with Disabilities Act. These laws and the regulations implementing them provide for nondiscrimination based on disability and require housing and other facilities to incorporate certain features intended to provide for their use and enjoyment by persons with disabilities. HUD is encouraging applicants to add accessible design features beyond those required under civil rights laws and regulations. These features would eliminate many other barriers limiting the access of persons with disabilities to housing and other facilities. Copies of the Uniform Federal Accessibility Standards (UFAS) are available from the NOFA Information Center at (800) HUD-8929 or (800) HUD-2209 (TTY) (these are toll-free numbers) and also from the Office of Fair Housing and Equal Opportunity, Department of Housing and Urban Development, 451 Seventh Street, SW., Room 5230, Washington, DC 20410-2000, at (202) 755-5404 or toll-free at (800) 877-8339 (TTY) (these are toll-free numbers).

Accessible design features are intended to promote visitability and incorporate features of universal design as described below.

(1) Visitability in New Construction and Substantial Rehabilitation. Applicants are encouraged to incorporate visitability standards, where feasible, in new construction and substantial rehabilitation projects. Visitability standards allow a person with mobility impairments access into the home, but do not require that all features be made accessible. Visitability means that there is at least one entrance at grade (no steps), approached by an accessible route such as a sidewalk, and that the entrance door and all interior passage doors are at least 2 feet, 10 inches wide, allowing 32 inches of clear passage space. A visitable home also serves persons without disabilities, such as a mother pushing a stroller or a person delivering a large appliance. More information about visitability is available at http://www.concretechange.org.

Activities support strategic goals b, c, and d.

(2) Universal Design. Applicants are encouraged to incorporate universal design in the construction or rehabilitation of housing, retail establishments, and community facilities funded with HUD assistance. Universal design is the design of products and environments to be usable by all people to the greatest extent possible, without the need for adaptation or specialized design. The intent of universal design is to simplify life for everyone by making products, communications, and the built environment more usable by as many people as possible at little or no extra cost to the user. Universal design benefits people of all ages and abilities. In addition to any applicable required accessibility feature under Section 504 of the Rehabilitation Act of 1973 or the design and construction requirements of the Fair Housing Act, the Department encourages applicants to incorporate the principles of universal design when developing housing, community facilities, and electronic communication mechanisms, or when communicating with community residents at public meetings or events.

HUD believes that by creating housing that is accessible to all, it can increase the supply of affordable housing for all, regardless of ability or age. Likewise, creating places where people work, train, and interact that are usable and open to all residents increases opportunities for economic and personal self-sufficiency. More information on Universal Design is available from the Center for Universal Design at http://www.design.ncsu.edu:8120/cud/ or the Resource Center on Accessible Housing and Universal Design at http://www.abledata.com/abledata.cfm?pageid=113573&top=16029&sectionid=19326.

Activities support strategic goals a, b, c, and d.

d. Providing Full and Equal Access to Grassroots Faith-Based and Other Community-Based Organizations in HUD Program Implementation.

(1) HUD encourages nonprofit organizations, including grassroots faith-based and other community-based organizations, to participate in the vast array of programs for which funding is available through HUD's programs. HUD also encourages states, units of local government, universities, colleges, and other organizations to partner with grassroots organizations (e.g., civic organizations, faith communities, and grassroots faith-based and other community-based organizations) that have not been effectively utilized. These grassroots organizations have a strong history of providing vital community services, such as assisting the homeless and preventing homelessness, counseling individuals and families on fair housing rights, providing elderly housing opportunities, developing first-time homeownership programs, increasing homeownership and rental housing opportunities in neighborhoods of choice, developing affordable and accessible housing in neighborhoods across the country, creating economic development programs, and supporting the residents of public housing facilities. HUD seeks to make its programs more effective, efficient, and accessible by expanding opportunities for grassroots organizations to participate in developing solutions for their own neighborhoods. Additionally, HUD encourages applicants to include these grassroots faith-based and other community-based organizations in their work plans. Applicants, their partners, and participants must review the individual FY2006 HUD program announcements to determine whether they are eligible to apply for funding directly or whether they must establish a working relationship with an eligible applicant in order to participate in a HUD funding opportunity. Grassroots faith-based and other community-based organizations, and applicants that currently or propose to partner, fund, subgrant, or subcontract with grassroots organizations (including grassroots faith-based or other community-based nonprofit organizations eligible under applicable program regulations) in conducting their work programs will receive higher rating points as specified in the individual FY 2006 HUD program announcements.

(2) Definitions of Grassroots Organizations.

(a) HUD will consider an organization a “grassroots organization” if the organization is headquartered in the local community in which it provides services; and

(i) Has a social services budget of $300,000 or less, or

(ii) Has six or fewer full-time equivalent employees.

(b) Local affiliates of national organizations are not considered “grassroots.” Local affiliates of national organizations are encouraged, however, to partner with grassroots organizations, but must demonstrate that they are currently working with a grassroots organization (e.g., having a grassroots faith-based or other community-based organization provide volunteers).

(c) The cap provided in paragraph (2)(a)(i) above includes only that portion of an organization's budget allocated to providing social services. It does not include other portions of the budget, such as salaries and expenses, not directly expended in the provision of social services.

Activities support strategic goal f.

e. Participation of Minority-Serving Institutions (MSIs) in HUD Programs. Pursuant to Executive Orders 13256, “President's Board of Advisors on Historically Black Colleges and Universities,” 13230, “President's Advisory Commission on Educational Excellence for Hispanic Americans,” 13216, “Increasing Participation of Asian Americans and Pacific Islanders in Federal Programs,” and 13270, “Tribal Colleges and Universities,” HUD is strongly committed to broadening the participation of MSIs in its programs. HUD is interested in increasing the participation of MSIs in order to advance the development of human potential, strengthen the nation's capacity to provide high quality education, and increase opportunities for MSIs to participate and benefit from Federal financial assistance programs. HUD encourages all applicants and recipients to include meaningful participation of MSIs in their work programs. A listing of MSIs can be found on the Department of Education Web site at http://www.ed.gov/about/offices/list/ocr/edlite-minorityinst.html or HUD's Web site at http://www.hud.gov/offices/adm/grants/fundsavail.cfm. Activities support strategic goals c and d.

f. Ending Chronic Homelessness. President Bush has set a national goal to end chronic homelessness. HUD Secretary Alphonso Jackson has embraced this goal and has pledged that HUD's grant programs will be used to support the President's goal and better meet the needs of chronically homeless individuals. A person experiencing chronic homelessness is defined as an unaccompanied individual with a disabling condition who has been continuously homeless for a year or more or has experienced four or more episodes of homelessness over the last 3 years. A disabling condition is defined as a diagnosable substance abuse disorder, serious mental illness, developmental disability, or chronic physical illness or disability, including the co-occurrence of two or more of these conditions. Applicants are encouraged to target assistance to chronically homeless persons by undertaking activities that will result in:

(1) Creation of affordable housing units, supportive housing, and group homes;

(2) Establishment of a set-aside of units of affordable housing for the chronically homeless;

(3) Establishment of substance abuse treatment programs targeted to the homeless population;

(4) Establishment of job training programs that will provide opportunities for economic self-sufficiency;

(5) Establishment of counseling programs that assist homeless persons in finding housing, managing finances, managing anger, and building interpersonal relationships;

(6) Provision of supportive services, such as health care assistance that will permit homeless individuals to become productive members of society; and

(7) Provision of service coordinators or one-stop assistance centers that will ensure that chronically homeless persons have access to a variety of social services.

Applicants that are developing programs to meet the goals set in this policy priority should keep in mind the requirements of the regulations implementing Section 504 of the Rehabilitation Act, in particular, 24 CFR 8.4(b)(1)(iv), 8.4(c)(1), and 8.4(d).

Activities support strategic goals b and c.

g. Removal of Regulatory Barriers to Affordable Housing.

In FY 2006, HUD continues to make removal of regulatory barriers a policy priority. Through the Department's America's Affordable Communities Initiative, HUD is seeking input into how it can work more effectively with the public and private sectors to remove regulatory barriers to affordable housing. Increasing the affordability of rental and homeownership housing continues to be a high priority of the Department. Addressing these barriers to housing affordability is a necessary component of any overall national housing policy.

Under this policy priority, higher rating points are available to (1) governmental applicants that are able to demonstrate successful efforts in removing regulatory barriers to affordable housing and (2) nongovernmental applicants that are associated with jurisdictions that have undertaken successful efforts in removing barriers. To obtain the policy priority points for efforts to successfully remove regulatory barriers, applicants must complete form HUD-27300, “Questionnaire for HUD's Initiative on Removal of Regulatory Barriers.” Copies of HUD's notices published on this issue can be found on HUD's Web site at http://www.hud.gov/offices/adm/grants/fundsavail.cfm.

Local jurisdictions and counties with land use and building regulatory authority applying for funding, as well as housing authorities, nonprofit organizations, and other qualified applicants applying for funds for projects located in these jurisdictions, are invited to answer the 20 questions under Part A. An applicant that scores at least five in column 2 will receive 1 point in the NOFA evaluation. An applicant that scores 10 or more in column 2 will receive 2 points in the NOFA evaluation.

State agencies or departments applying for funding, as well as housing authorities, nonprofit organizations, and other qualified applicants applying for funds for projects located in unincorporated areas or areas not otherwise covered in Part A, are invited to answer the 15 questions under Part B. Under Part B, an applicant that scores at least four in Column 2 will receive one point in the NOFA evaluation. Under Part B, an applicant that scores eight or greater will receive a total of two points in the respective evaluation.

Applicants that will be providing services in multiple jurisdictions may choose to address the questions in either Part A or Part B for that jurisdiction in which the preponderance of services will be performed if an award is made. In no case will an applicant receive more than two points for barrier removal activities under this policy priority. An applicant that is an Indian tribe or TDHE may choose to complete either Part A or Part B based upon a determination by the tribe or TDHE as to whether the tribe's or the TDHE's association with the local jurisdiction or the state would be the more advantageous for its application.

Form HUD-27300 is available at http://www.hudclips.org/sub/nonhud/cgi/pdfforms/27300.pdf. A limited number of questions on form HUD-27300 expressly request the applicant to provide brief documentation with its response. Other questions require that, for each affirmative statement made, the applicant supply a reference, Internet address, or brief statement indicating where the back-up information may be found and a point of contact, including a telephone number or e-mail address. Applicants are encouraged to read HUD's three notices, which are available at http://www.hud.gov/affordablecommunities, to obtain an understanding of this policy priority and how it can affect their score. Applicants that do not provide the Internet addresses, references, or documentation will not get the policy priority points. Activities support strategic goals a and b.

h. Participation in Energy Star. HUD has adopted a wide-ranging energy action plan for improving energy efficiency in all program areas. As a first step in implementing the energy plan, HUD, the Environmental Protection Agency (EPA), and the Department of Energy (DOE) have signed a partnership to promote energy efficiency in HUD's affordable housing programs, including public housing, HUD-insured housing, and housing financed through HUD formula and competitive programs. The purpose of the Energy Star partnership is to promote energy-efficient affordable housing stock while protecting the environment. Applicants constructing, rehabilitating, or maintaining housing or community facilities are encouraged to promote energy efficiency in design and operations. They are urged especially to purchase and use products that display the Energy Star label. Applicants providing housing assistance or counseling services are encouraged to promote Energy Star materials and practices, as well as buildings constructed to Energy Star standards, to both homebuyers and renters.

Applicants are encouraged to undertake program activities that include developing Energy Star promotional and information materials, providing outreach to low- and moderate-income renters and buyers on the benefits and savings when using Energy Star products and appliances, utilizing Energy Star-designated products in the construction or rehabilitation of housing units, and replacing worn products or facilities, such as light bulbs, water heaters, furnaces, etc., with Energy Star products to reduce operating costs. Communities and developers are encouraged to promote the designation of community buildings and homes as Energy Star compliant. For further information about Energy Star, see http://www.energystar.gov or call (888) 782-7937, or (888) 588-9920 (TTY).

Activities support strategic goals 1 and 2.

3. Threshold Compliance

Only applications that meet all of the threshold requirements will be eligible to receive an award of funds from HUD.

4. Corrections to Deficient Applications

After the application deadline date and time, HUD may not, consistent with its regulations in 24 CFR part 4, subpart B, consider any unsolicited information you, the applicant, may want to provide. HUD may contact you to clarify an item in your application or to correct technical deficiencies. HUD may not seek clarification of items or responses that improve the substantive quality of your response to any rating factors. In order not to unreasonably exclude applications from being rated and ranked, HUD may contact applicants to ensure proper completion of the application and will do so on a uniform basis for all applicants.

Examples of curable (correctable) technical deficiencies include inconsistencies in the funding request, failure to submit the proper certifications, and failure to submit an application that contains a signature by an official able to make a legally binding commitment on behalf of the applicant. In the case of an applicant that received a waiver of the regulatory requirement to submit an electronic application, the technical deficiency may include failure to submit an application that contains an original signature. If HUD finds a curable deficiency in the application, HUD will notify you in writing by describing the clarification or technical deficiency. HUD will notify applicants by facsimile or via the U.S. Postal Service, return receipt requested. Clarifications or corrections of technical deficiencies in accordance with the information provided by HUD must be submitted within 14 calendar days of the date of receipt of the HUD notification. (If the deadline date falls on a Saturday, Sunday, or Federal holiday, your correction must be received by HUD on the next day that is not a Saturday, Sunday, or Federal holiday.) If the deficiency is not corrected within this time, HUD will reject the application as incomplete, and it will not be considered for funding. In order to meet statutory deadlines for the obligation of funds or for timely completion of the review process, program NOFAs may reduce the number of days for submitting a response to a HUD clarification or correction to a technical deficiency. Please be sure to carefully read each program NOFA for any additional information and instructions. An applicant's response to a HUD notification of a curable deficiency should be submitted directly to HUD in accordance with the instructions provided in the notification.

5. Rating Panels

To review and rate applications, HUD may establish panels that may include persons not currently employed by HUD. HUD may include these non-HUD employees to obtain certain expertise and outside points of view, including views from other Federal agencies. Persons brought into HUD to review applications are subject to conflict of interest provisions. In addition, reviewers using HUD information technology (IT) systems may be subject to an IT security check.

6. Rating

HUD will evaluate and rate all applications for funding that meet the threshold requirements. HUD will consider the factors described below when rating your application(s).

a. Past Performance. In evaluating applications for funding, HUD will take into account applicants' past performance in managing funds, including, but not limited to, the ability to account for funds appropriately, timely use of funds received either from HUD or other Federal, State, or local programs; meeting performance targets as established in Logic Models approved as part of the grant agreement, timelines for completion of activities, and receipt of promised matching or leveraged funds; and number of persons to be served or targeted for assistance. HUD may consider information available from HUD's records, the name check review, public sources, such as newspapers, Inspector General or Government Accountability Office reports or findings, or hotline or other complaints that have been proven to have merit.

b. Deducting Points for Poor Performance. In evaluating past performance, HUD may elect to deduct points from the rating score or establish threshold levels as specified under the Factors for Award in the individual program NOFAs.

7. Ranking

HUD will rank applicants within each program or, for Continuum of Care applicants, across the three programs identified in the Continuum of Care NOFA. HUD will rank applicants only against those applying for the same program funding.

Where there are set-asides within a program competition, you, the applicant, will compete against only those applicants in the same set-aside competition.

C. Anticipated Announcement and Award Dates

The individual program NOFAs will provide the applicable information regarding this subject.

VI. Award Administration Information

A. Award Notices

1. Negotiation

After HUD has rated and ranked all applications and made selections, HUD may require, depending on the program, that a selected applicant participate in negotiations to determine the specific terms of the funding agreement and budget. In cases where HUD cannot successfully conclude negotiations with a selected applicant or a selected applicant fails to provide HUD with requested information, an award will not be made to that applicant. In such an instance, HUD may offer an award to and proceed with negotiations with the next highest-ranking applicant.

2. Adjustments to Funding

a. HUD reserves the right to fund less than the full amount requested in your application to ensure the fair distribution of funds and enable the purposes or requirements of a specific program to be met.

b. HUD will not fund any portion of your application that is not eligible for funding under specific program statutory or regulatory requirements; does not meet the requirements of this notice; or is duplicative of other funded programs or activities from prior year awards or other selected applicants. Only the eligible portions of your application (excluding duplicative portions) may be funded.

c. If funds remain after funding the highest-ranking applications, HUD may fund all or part of the next highest-ranking application in a given program. If you, the applicant, turn down an award offer, HUD will make an offer of funding to the next highest-ranking application.

d. If funds remain after all selections have been made, remaining funds may be made available within the current fiscal year for other competitions within the program area or held over for future competitions.

e. Individual program NOFAs may have other requirements, so please review the program NOFA carefully.

3. Funding Errors

In the event HUD commits an error that, when corrected, would result in selection of an otherwise eligible applicant during the funding round of a program NOFA, HUD may select that applicant when sufficient funds become available.

4. Performance and Compliance Actions of Funding Recipients

HUD will measure and address the performance and compliance actions of funding recipients in accordance with the applicable standards and sanctions of their respective programs.

5. Debriefing

For a period of at least 120 days, beginning 30 days after the awards for assistance are publicly announced, HUD will provide to a requesting applicant a debriefing related to its application. A request for debriefing must be made in writing or by email by the authorized official whose signature appears on the SF-424 or his or her successor in office, and submitted to the person or organization identified as the contact under the section entitled “Agency Contact(s)” in the individual program NOFA under which you applied for assistance. Information provided during a debriefing will include, at a minimum, the final score you received for each rating factor, final evaluator comments for each rating factor, and the final assessment indicating the basis upon which assistance was provided or denied.

B. Administrative and National Policy Requirements

See Section III.C. of this notice regarding related requirements.

C. Reporting

In FY2004, HUD used the Logic Model as a planning tool, which was submitted as part of the NOFA application. In FY2005, HUD required performance reporting against the approved logic model incorporated into the grant agreement. In FY2006, HUD is moving to standardized “Master” Logic Models from which applicants can select needs, activities/outputs, and outcomes appropriate to their programs. In addition, program offices have identified Program Management Evaluation Questions and a Return on Investment (ROI) Statement that grantees will be required to report on as specified in the program NOFA. The timeframe established for the Logic Model reporting will be in accordance with the program's established reporting periods and as stated in the program NOFA. The program NOFA will also establish the timeframe for reporting the Program Management Evaluation Questions and ROI Statement.

The download instructions found on Grants.gov for each funding opportunity will include the Program Outcome Logic Model form HUD-96010, which is a Microsoft Excel™ workbook containing instructions in Tab 1 on how to use the form. The form or eLogic Model™ incorporates a program-specific master list of statements of need, service or activity/output(s), and their associated unit(s) of measure; and outcome(s) and their associated unit(s) of measure. To begin completing the form, applicants will be required to click on a cell within a column, at which time a drop down button will appear to the right of the cell. Applicants can then select the appropriate statement(s) that reflect their proposed program. Applicants can select multiple need(s), services or activities/outputs, and outcomes, but each selection is entered in separate cells using the drop-down menu. The units of measure, whether for outputs or outcomes, contain both a number and a descriptor of the output or outcome that is counted. Applicants select the unit of measure in accordance with the output or outcome selected, and then insert the expected number of units to be completed during the period of performance. In this manner, the applicant will build a custom logic model reflecting their program of activities. The custom logic model will link the need(s) to the activity/output(s), which in turn are linked to the result or expected outcome(s).

Applicants that do not have Microsoft Excel™ may obtain a PDF version of the form along with a program specific Master Logic Model from HUD's Web site at http://www.hud.gov/offices/adm/grants/fundsavail.cfm. Each program-specific Master Logic Model will be under the program title on the Web site. Multiple forms can be used to distinguish between short, intermediate, and long-term outputs and outcomes in the applicant's proposed program. The PDF form can be completed, printed, and transmitted using the facsimile transmittal form (HUD-96011).

1. In FY2006, grantees must adhere to the following reporting principles:

a. An evaluation process will be part of the ongoing management of the HUD-funded award;

b. Comparisons will be made between projected and actual numbers for outputs and outcomes;

c. Deviations from projected outputs and outcomes will be documented and explained as part of required reporting; and

d. Data will be analyzed to determine the relationship of outputs to outcomes to determine which outputs produce which outcomes and which are most effective.

2. As stated above, in FY2006, HUD is requiring each program to establish a set of Program Management Evaluation Questions and a ROI Statement for grantee reporting. Grantees must use these program-specific questions to self-evaluate the management and performance of their program and address the ROI Statement for the program in accordance with the program-specific reporting requirements. In developing the Master Logic Model Program Management Evaluation Questions, HUD trained its program managers on a critical thinking process known as the ©Carter-Richmond methodology that identifies key management and evaluation questions for HUD's programs. The following table identifies the ©Carter-Richmond generic questions and where the source data is found in the Logic Model.

©Carter-Richmond Methodology ¹: Building Blocks for Effective Management
Management questions | Logic model columns for source data
1. How many clients are you serving? | Service/Activity/Output.
2. How many units were provided? | Service/Activity/Output.
3. Who are you serving? | Service/Activity/Output.
4. What services do you provide? | Service/Activity/Output.
5. What does it cost? | Service/Activity/Output.
6. What does it cost per service delivered? | Service/Activity/Output/Evaluation.
7. What happens to the “subjects” as a result of the service?² | Outcome.
8. What does it cost per outcome? | Outcome and Evaluation.
9. What is the value of the outcome? | Outcome and Evaluation.
10. What is the return on investment? | Evaluation.
¹ The Carter-Richmond methodology is copyrighted and is provided to support the development of your grant application. Any other use is prohibited without prior written permission of The Center for Applied Management Practices, Inc., 3609 Gettysburg Road, Camp Hill, PA 17011, (717) 730-3705, http://www.appliedmgt.com.
² The subject can be a client or a unit, such as a building and is defined in its associated unit of service.

As a result of this training, each program has developed specific Program Management Evaluation Questions tailored to the statutory purpose of each of their programs. Each program NOFA will require applicants to address the Program Management Evaluation Questions based upon the ©Carter-Richmond methodology in their reports to HUD. The program NOFAs will identify the particular program management evaluation questions to be addressed that relate to the statutory purpose and intent of each program.

Training on HUD's Logic Model, the reporting requirements for addressing the Program Management Evaluation Questions, and how to calculate a ROI Statement will be provided via satellite broadcast. The training will also provide examples of how to construct the Logic Model using the copy and paste method. Training materials and the dates for the training will be on HUD's Web site at http://www.hud.gov/offices/adm/grants/fundsavail.cfm, shortly after publication of the SuperNOFA. In addition, each program NOFA broadcast will address the specific ROI reporting requirements for the program during the broadcast.

Applicants should submit the completed Logic Model as an attachment to their application in accordance with the directions in the program NOFA for addressing the factors for award. Each program NOFA will identify if they want the factors for award, including the Logic Model required as part of the application submission, submitted as a single attached file or as separate files. Please follow the program NOFA directions.

Once selected for funding and awarded funds, grantees will be required to submit a completed form HUD-96010 Logic Model indicating results achieved against the proposed output(s) and proposed outcome(s) stated in the grantee's approved application and agreed to by HUD. The submission of the Logic Model and required ROI Statement calculation must be submitted to HUD in accord with the reporting periods identified in each program NOFA for providing reports to HUD.

VII. Agency Contact(s)

The individual program NOFAs will identify the applicable agency contacts related to each program. Questions regarding this notice should be directed to the NOFA Information Center between the hours of 10 a.m. and 6:30 p.m. eastern time at 800-HUD-8929. Hearing impaired persons may call 800-HUD-2209. Questions regarding specific program requirements should be directed to the agency contacts identified in each program NOFA.

VIII. Other Information

A. Grants.gov and P.L. 106-107 Streamlining Activities

The Federal Financial Assistance Management Improvement Act of 1999 (Public Law 106-107) directs each Federal agency to develop and implement a plan that, among other things, streamlines and simplifies the application, administrative, and reporting procedures for Federal financial assistance programs administered by the agency. This law also requires the Director of the Office of Management and Budget (OMB) to direct, coordinate, and assist Federal agencies in establishing (1) a common application and reporting system and (2) an interagency process for addressing ways to streamline and simplify Federal financial assistance application and administrative procedures and reporting requirements for program applicants.

The first segment of the Grants.gov initiative focuses on allowing the public to easily FIND competitive funding opportunities and then APPLY via Grants.gov. HUD posted all of its funding opportunities on http://www.grants.gov/Find in FY2004, with the exception of the Continuum of Care, and intends to do the same in FY2006. In addition, Grants.gov is working with the Federal agencies to begin the process of accepting mandatory and formula grant program plans and application submissions online via Grants.gov in 2006. Applicants for HUD's formula and competitive programs are urged to become familiar with the Grants.gov site, registration procedures, and electronic submissions so that as the site is expanded, you will be registered and familiar with the find-and-apply functionality.

B. HUD-Internal Revenue Service (IRS) Memorandum of Agreement

HUD and the IRS have entered into a memorandum of agreement to provide information to HUD grantees serving low-income, disabled, and elderly persons, as well as persons with limited English proficiency, on the availability of low-income housing tax credits, the earned income tax credit, individual development accounts, child tax credits, and the IRS Voluntary Income Tax Assistance program. HUD is making available on its Web site information on these IRS asset-building resources. HUD encourages you to visit the site and disseminate this information to low-income residents in your community and other organizations that serve low-income residents, so that eligible individuals can take advantage of these resources.

C. Paperwork Reduction Act Statement

The information collection requirements in this notice have been approved by OMB under the Paperwork Reduction Act of 1995 (44 U.S.C. 3501-3520). In accordance with the Paperwork Reduction Act, HUD may not conduct or sponsor, and a person is not required to respond to, a collection of information unless the collection displays a valid OMB control number. Each program NOFA will identify its applicable OMB control number.

D. Environmental Impact

A Finding of No Significant Impact with respect to the environment has been made for this notice in accordance with HUD regulations at 24 CFR part 50 that implement Section 102(2)(C) of the National Environmental Policy Act of 1969 (42 U.S.C. 4332(2)(C)). The Finding of No Significant Impact is available for public inspection between 8 a.m. and 5 p.m. eastern time, Monday through Friday, except Federal holidays, in the Office of the General Counsel, Regulations Division, Department of Housing and Urban Development, 451 Seventh Street, SW., Room 10276, Washington, DC 20410-0500.

E. Executive Orders and Recent Legislative Changes

1. Executive Order 13132, Federalism

Executive Order 13132 prohibits, to the extent practicable and permitted by law, an agency from promulgating policies that have federalism implications and either impose substantial direct compliance costs on State and local governments and are not required by statute, or preempt State law, unless the relevant requirements of Section 6 of the executive order are met. This notice does not have federalism implications and does not impose substantial direct compliance costs on State and local governments or preempt State law within the meaning of the executive order.

2. American-made Products

Sections 708 and 709 of the Transportation, Treasury, Housing and Urban Development, the Judiciary, and Independent Agencies Appropriations Act, 2006 (Pub. L. 109-115; approved Nov. 30, 2005) states that, to the greatest extent practicable, all equipment and products purchased with funds made available in FY2006 should be American-made.

3. Eminent Domain

Section 726 of the Transportation, Treasury, Housing and Urban Development, the Judiciary, and Independent Agencies Appropriations Act, 2006 (Pub. L. 109-115; approved Nov. 30, 2005) states that no funds made available under the Act may be used to support any Federal, State, or local projects that seek to use the power of eminent domain, unless eminent domain is employed only for a public use.

For purposes of this provision, public use shall not be construed to include economic development that primarily benefits private entities.

Further, any use of funds for mass transit, railroad, airport, seaport or highway projects as well as utility projects which benefit or serve the general public (including energy-related, communication-related, water-related and wastewater-related infrastructure), other structures designated for use by the general public or which have other common-carrier or public-utility functions that serve the general public and are subject to regulation and oversight by the government, and projects for the removal of an immediate threat to public health and safety or brownsfield as defined in the Small Business Liability Relief and Brownsfield Revitalization Act (Pub. L. 107-118) shall be considered a public use for purposes of eminent domain.

F. Public Access, Documentation, and Disclosure

Section 102 of the Department of Housing and Urban Development Reform Act of 1989 (HUD Reform Act) (42 U.S.C. 3545) and the regulations codified at 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under individual NOFAs published as part of HUD's SuperNOFA or thereafter, as described below.

1. Documentation, Public Access, and Disclosure Requirements

HUD will ensure that documentation and other information regarding each application submitted pursuant to its FY2006 NOFAs published in the 2006 SuperNOFA or NOFAs published thereafter are sufficient to indicate the basis upon which assistance was provided or denied. This material, including any letters of support, will be made available for public inspection for a 5-year period beginning not less than 30 days after the award of the assistance. Material will be made available in accordance with the Freedom of Information Act (5 U.S.C. 552) and HUD's implementing regulations (24 CFR part 15).

2. Form HUD-2880

HUD will also make available to the public for 5 years all applicant disclosure reports (form HUD-2880) submitted in connection with an FY2006 NOFA. Update reports (also reported on form HUD-2880) will be made available along with the applicant disclosure reports, but in no case for a period of less than 3 years. All reports, both applicant disclosures and updates, will be made available in accordance with the Freedom of Information Act (5 U.S.C. 552) and HUD's implementing regulations (24 CFR part 5).

BILLING CODE 4210-32-P

3. Publication of Recipients of HUD Funding

HUD's regulations at 24 CFR part 4 provide that HUD will publish a notice in the Federal Register to notify the public of all funding decisions made by the Department to provide:

a. Assistance subject to Section 102(a) of the HUD Reform Act; and

b. Assistance provided through grants or cooperative agreements on a discretionary (non-formula, non-demand) noncompetitive basis, but that is not provided based on a competition.

G. Section 103 of the HUD Reform Act

HUD's regulations implementing Section 103 of the HUD Reform Act, codified at 24 CFR part 4, subpart B, apply to this funding competition. The regulations continue to apply until the announcement of the selection of successful applicants. HUD employees involved in the review of applications and in the making of funding decisions are prohibited by the regulations from providing advance information to any person (other than an authorized employee of HUD) concerning funding decisions or from otherwise giving any applicant an unfair competitive advantage. Persons who apply for assistance should confine their inquiries to the subject areas permitted under 24 CFR part 4.

Applicants or employees who have ethics-related questions should contact the HUD Ethics Law Division at (202) 708-3815 (this is not a toll-free number). The toll-free TTY number for persons with speech or hearing impairments is (800) 877-8339. HUD employees who have specific program questions should contact the appropriate field office counsel or Headquarters counsel for the program to which the question pertains.

[FR Doc. 06-531 Filed 1-19-06; 8:45 am]

BILLING CODE 4210-32-C